DEPARTMENT OF HEALTH AND HUMAN SERVICES

Centers for Disease Control and Prevention

[60Day-19-19BJD; Docket No. CDC-2019-0059]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Monitoring and reporting for the Overdose Data to Action Cooperative Agreement.” This new data collection effort is to collect information from grantees funded under the Overdose Data to Action (CDC-RFA-CE19-1904) funding opportunity. The information collected will be used to monitor the progress on set performance activities, and progress towards stated grant objectives.

DATES: CDC must receive written comments on or before September 23, 2019.

ADDRESSES: You may submit comments, identified by Docket No. CDC-2010-0059 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Monitoring and reporting for the Overdose Data to Action Cooperative Agreement—New—National Center for Injury Prevention and Control (NCIPC), Centers for Disease Control and Prevention (CDC).

Background and Brief Description

This new request for a data collection effort is to collect information from grantees funded under the Overdose Data to Action. OMB approval is requested for three years for this new collection. Drug overdose deaths in the United States increased by 18% per year from 2014 to 2016. Opioid overdose deaths have increased fivefold from 1999 to 2016 and in 2017, there were more than 47,000 deaths attributed to opioids. The purpose of the Overdose Data to Action funding opportunity is to support funded grantees in getting high quality, complete, and timely data on opioid prescribing and overdoses, and to use those data to inform prevention and response efforts. There are two required components of this award, a surveillance component, and a prevention component. The intent is to ensure that funded grantees are well equipped to do rigorous work under both components.

The information collected will provide crucial data to CDC for program monitoring and budget tracking, to improve timely CDC-recipient communications, and to inform technical assistance and guidance documents produced by CDC to support program implementation among funded grantees. It will also provide CDC with the capacity to respond in a timely manner to requests for information about the program from the Department of Health and Human Services (HHS), the White House, Congress, and other sources.

Data collection will include 100% of the funded grantee population, with no sampling. The data will be analyzed using descriptive, summary statistics, and qualitative summary. CDC requests approval for 1,320 annualized burden hours. There are no costs to the respondents other than their time.

Estimated Annualized Burden Hours
Type of respondents | Form name | Number of respondents | Number of responses per respondent | Average burden per response (in hours) | Total burden (in hours)
Overdose Data to Action funded jurisdictions (State—territories—counties and cities) and their designated delegates | Evaluation and Performance Measuring Plan Template—Initial Population | 22 | 1 | 12 | 264
| Evaluation and Performance Measuring Plan Template—Annual reporting | 66 | 1 | 4 | 264
| Overdose Prevention Capacity Assessment Tool | 66 | 1 | 1 | 66
| Activity Progress Report and Work Plan Tool—Initial Population | 22 | 1 | 20 | 440
| Activity Progress Report and Work Plan Tool—Annual Reporting | 66 | 1 | 4 | 264
| Surveillance Data Dissemination Plan | 22 | 1 | 1 | 22
Total |  |  |  |  | 1,320

Jeffrey M. Zirger,
Lead, Information Collection Review Office, Office of Scientific Integrity, Office of Science, Centers for Disease Control and Prevention.

[FR Doc. 2019-15819 Filed 7-24-19; 8:45 am]

BILLING CODE 4163-19-P